DEPARTMENT OF STATE

[Public Notice: 6183]

U.S. National Commission for UNESCO Notice of Meeting

The Annual Meeting of the U.S. National Commission for the United Nations Educational, Scientific, and Cultural Organization (UNESCO) will take place on Monday, May 19, 2008 and Tuesday, May 20, 2008, at the Marriott Georgetown University Conference Hotel, Washington, DC (3800 Reservoir Road, NW.). On Monday, May 19 from 9 a.m. to 12 p.m. and from 2 p.m. to 4:30 p.m. and on Tuesday, May 20 from 9:15 a.m. to 11:45 a.m., the Commission will hold a series of informational plenary sessions and subject-specific committee and thematic breakout sessions, which will be open to the public. Additionally, on Tuesday, May 20, 2008, the Commission will meet from 1 p.m. until 2:30 p.m. to discuss final recommendations, which also will be open to the public. Members of the public who wish to attend any of these meetings should contact the U.S. National Commission for UNESCO no later than Thursday, May 15th for further information about admission, as seating is limited. Those who wish to make oral comments during the public comment section held during the concluding session Tuesday afternoon should request to be scheduled by Thursday, May 15th. Each individual will be limited to five minutes, with the total oral comment period not exceeding forty-five minutes. Written comments should be submitted by Tuesday, May 13th to allow time for distribution to the Commission members prior to the meeting. The National Commission may be contacted via e-mail at DCUNESCO@state.gov, or via phone at (202) 663-0026. Its Web site can be accessed at: http://www.state.gov/p/io/unesco/.

Dated: April 28, 2008.
Susanna Connaughton,
Executive Director, U.S. National Commission for UNESCO, Department of State.

[FR Doc. E8-9836 Filed 5-2-08; 8:45 am]

BILLING CODE 4710-19-P